DEPARTMENT OF COMMERCE

International Trade Administration

A-588-850

Certain Large Diameter Carbon and Alloy Seamless Standard, Line, and Pressure Pipe from Japan: Notice of Rescission of Antidumping Duty Administrative Review

AGENCY: Import Administration, International Trade Administration, Department of Commerce.

SUMMARY: In response to a request from United States Steel Corporation, the Department of Commerce initiated an administrative review of the antidumping duty order on certain large diameter carbon and alloy seamless standard, line, and pressure pipe from Japan, covering the period June 1, 2005, through May 31, 2006. Because this request was later withdrawn, we are rescinding the review.

EFFECTIVE DATE: December 22, 2006.

FOR FURTHER INFORMATION CONTACT: Saliha Loucif at (202) 482-1779; AD/CVD Operations Office 1, Import Administration, International Trade Administration, U.S. Department of Commerce, 14th Street & Constitution Avenue, NW, Washington, DC 20230.

SUPPLEMENTARY INFORMATION:

Background

On June 26, 2000, the Department of Commerce (the Department) published, in the Federal Register, the antidumping duty order on certain large diameter carbon and alloy seamless standard, line, and pressure pipe (seamless pipe) from Japan. See Notice of Antidumping Duty Orders: Certain Large Diameter Carbon and Alloy Seamless Standard, Line and Pressure Pipe from Japan; and Certain Small Diameter Carbon and Alloy Seamless Standard, Line and Pressure Pipe From Japan and the Republic of South Africa, 65 FR 39360 (June 26, 2000).

On June 2, 2006, the Department published a notice of opportunity to request an administrative review of the antidumping duty order of seamless pipe for the period of review covering June 1, 2005, through May 31, 2006 (the period of review). See Antidumping or Countervailing Duty Order, Finding, or Suspended Investigation; Opportunity to Request Administrative Review, 71 FR 32032 (June 2, 2006).

In accordance with 19 CFR 351.213(b), on June 30, 2006, United States Steel Corporation (the petitioner) requested an administrative review of the antidumping duty order on seamless pipe from Japan, for JFE Steel Corporation, Nippon Steel Corporation, NKK Tubes, and Sumitomo Metal Industries, Ltd. (collectively, the respondents). None of the respondents requested a review. On July 27, 2006, in accordance with 19 CFR 351.221(c)(1)(i), the Department published in the Federal Register the initiation of an administrative review of the antidumping order on seamless pipe from Japan. See Notice of Initiation of Antidumping and Countervailing Duty Administrative Reviews and Request for Revocation in Part, 71 FR 42626 (July 27, 2006). On August 1, 2006, the Department issued its antidumping questionnaire. In August 2006, respondents submitted letters claiming that they did not have sales of subject merchandise during the period of review. On November 28, 2006, the petitioner withdrew its request for an administrative review of seamless pipe from Japan.

Rescission of Review

The Department's regulations at 351.213(d)(1) provide that the Department will rescind an administrative review if the party that requested the review withdraws its request for a review within 90 days of the date of publication of the notice of initiation of the requested review. The regulations further provide that the Secretary “may extend this time limit if the Secretary decides that it is reasonable to do so.” Although the petitioner's November 28, 2006, withdrawal request for this review was not within the 90-day time limit as prescribed in 19 CFR 351.213(d)(1), we find that, under the circumstances of this review, it is appropriate to accept the withdrawal request and rescind the review. In response to the Department's August 1, 2006, antidumping questionnaire, the respondents have claimed no shipments of subject merchandise to the United States during the period of review, and, therefore, the Department has neither issued supplemental questionnaires nor conducted verification at this point in the proceeding. Continuing the review would only require the petitioner, respondents, and the Department to expend time and resources on a review in which the only party that requested the review is no longer interested.

Accordingly, the Department does not believe the administrative review has proceeded to a point at which it would be “unreasonable” to rescind the review. The Department, therefore, finds that it is reasonable to extend the 90-day time limit and to rescind the administrative review. The Department will issue appropriate assessment instructions to U.S. Customs and Border Protection after 15 days of publication of this notice.

This notice serves as a reminder to parties subject to administrative protective order (APO) of their responsibility concerning the return or destruction of proprietary information disclosed under APO in accordance with 19 CFR 351.305(a)(3). Timely written notification of the return/destruction of APO materials or conversion to judicial protective order is hereby requested. Failure to comply with the regulations and terms of an APO is a sanctionable violation.

This notice is issued and published in accordance with section 777(i)(1) of the Tariff Act of 1930, as amended, and 19 CFR 351.213(d)(4).

Dated: December 18, 2006.
Stephen J. Claeys,
Deputy Assistant Secretary for Import Administration.

[FR Doc. E6-21999 Filed 12-21-06; 8:45 am]

BILLING CODE 3510-DS-S